DEPARTMENT OF HOUSING AND URBAN DEVELOPMENT

[Docket No. FR-5705-N-01]

Notice of a Federal Advisory Committee Meeting: Manufactured Housing Consensus Committee Structural and Design Subcommittee

AGENCY: Office of the Assistant Secretary for Housing—Federal Housing Commissioner, Department of Housing and Urban Development (HUD).

ACTION: Notice of a Federal advisory committee Structural and Design Subcommittee teleconference meeting.

SUMMARY: This notice sets forth the schedule and proposed agenda for a teleconference meeting of the Manufactured Housing Consensus Committee (MHCC), Structural and Design Subcommittee. The teleconference meeting is open to the public. The agenda provides an opportunity for citizens to comment on the business before the Subcommittee.

DATES: The teleconference meeting will be held on April 23, 2013, from 1:00 p.m. to 4:00 p.m. EST. The teleconference numbers are: US toll-free: 1-855-747-8824, and US toll: 1-719-325-2630; Participant Code: 547096.

FOR FURTHER INFORMATION CONTACT: Henry S. Czauski, Acting Deputy Administrator and Designated Federal Official (DFO), Office of Manufactured Housing Programs, Department of Housing and Urban Development, 451 Seventh Street SW., Room 9166, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974 (42 U.S.C. 5401 et seq.) as amended by the Manufactured Housing Improvement Act of 2000 (Pub. L. 106-569). According to 42 U.S.C. 5403, as amended, the purposes of the MHCC are to:

• Provide periodic recommendations to the Secretary to adopt, revise, and interpret the Federal manufactured housing construction and safety standards;

• Provide periodic recommendations to the Secretary to adopt, revise, and interpret the procedural and enforcement regulations, including regulations specifying the permissible scope and conduct of monitoring; and

• Be organized and carry out its business in a manner that guarantees a fair opportunity for the expression and consideration of various positions and for public participation.

The MHCC is deemed an advisory committee not composed of Federal employees.

Public Comment: Citizens wishing to make oral comments on the business of the MHCC Structural and Design Subcommittee are encouraged to register by or before April 17, 2013, by contacting the National Fire Protection Association, attention: Robert Solomon, by mail to: One Batterymarch Park, P.O. Box 9101, Quincy, Massachusetts 02169, or by fax to 617-984-7110, or by email to Imackay@nfpa.org.

Written comments are encouraged. The MHCC Structural and Design Subcommittee strives to accommodate citizen comments to the extent possible within the time constraints of the meeting agenda. Advance registration is strongly encouraged. The MHCC will also provide an opportunity for public comment on specific matters before the Structural and Design Subcommittee.

Tentative Agenda

April 23, 2013 from 1:00 p.m. to 4:00 p.m. EST

I. Welcome & Opening Remarks: Chair & DFO

II. Review and Approve Subcommittee Meeting Minutes—Dated 10-23-12 to 10-25-12

III. Review Log of Proposal:

Log #1 24 CFR 3285—Alternative Foundation System Testing.

Log #80 24 CFR 3280.406—Formaldehyde Testing; Video explaining ASTM E1333: http://www.ntainc.com/video-fhydelarge.html; Video explaining ASTM D6007: http://www.ntainc.com/video-fhyde.html.

Log #81 24 CFR 3280.403—Update reference standard for windows and sliding glass doors.

Log #82 24 CFR 3280.404—Update reference standard for windows and sliding glass doors.

Log #83 24 CFR 3280.405—Update reference standard for swinging exterior passage doors.

IV. Adjourn: 4:00 p.m.

Dated: April 4, 2013.
Laura Marin,
Acting General Deputy Assistant Secretary for Housing.

[FR Doc. 2013-08265 Filed 4-9-13; 8:45 am]

BILLING CODE 4210-67-P